COUNCIL ON ENVIRONMENTAL QUALITY

Annual Report on Endangered Species Act Exemption

AGENCY: Council on Environmental Quality.

ACTION: Availability of report.

SUMMARY: This notice announces the availability of the Annual Report submitted by Basin Electric Power Cooperative, as Project Manager for the Missouri Basin Power Project in the matter of an exemption granted from the requirements of the Endangered Species Act to Grayrocks Dam. The lead federal agency in the project is the Rural Electrification Administration.

DATES: The report was submitted to the Council on January 18, 2002. The report was received by the Council on April 17, 2002.

ADDRESSES: The Annual Report is available from Basin Electric Power Cooperative, 1717 East Interstate Avenue, Bismarck, ND 58503-0564. Telephone: (701) 223-0441

FOR FURTHER INFORMATION CONTACT: Dinah Bear, General Counsel, Council on Environmental Quality, 722 Jackson Place, NW., Washington, DC 20503 Telephone: (202) 395-7421

SUPPLEMENTARY INFORMATION: Under the Endangered Species Act, any agency granted an exemption under 16 U.S.C. 1536(h) must submit to the Council on Environmental Quality an annual report describing its compliance methods with the mitigation and enhancement measures prescribed by 16 U.S.C. 1536(1)(2). This subsection further requires that the Council publish availability of the report in the Federal Register.

Dated: April 23, 2002.
Dinah Bear,
General Counsel.

[FR Doc. 02-10408 Filed 4-26-02; 8:45 am]

BILLING CODE 3125-01-M